DEPARTMENT OF COMMERCE

National Oceanic and Atmospheric Administration

RIN 0648-XC445

Fisheries of the South Atlantic; South Atlantic Fishery Management Council; Public Meetings

AGENCY: National Marine Fisheries Service (NMFS), National Oceanic and Atmospheric Administration (NOAA), Commerce.

ACTION: Meetings of the South Atlantic Fishery Management Council's Information & Education Advisory Panel (AP); Law Enforcement AP; Joint Meeting of the Information & Education AP and Law Enforcement AP; and meeting of the Marine Protected Area (MPA) Expert Workgroup.

SUMMARY: The South Atlantic Fishery Management Council (SAFMC) will hold the AP meetings and the MPA Expert Workgroup meeting in North Charleston, SC.

DATES: The meetings will be held from 1:30 p.m. on Monday, February 4, 2013 until 5 p.m. on Thursday, February 7, 2013. See SUPPLEMENTARY INFORMATION for specific dates and times.

ADDRESSES: The meetings will be held at the Crowne Plaza Airport Hotel, 4381 Tanger Outlet Boulevard, North Charleston, SC 29418; telephone: (800) 503-5762 or (843) 744-4422; fax: (843) 744-4472.

Council Address: South Atlantic Fishery Management Council, 4055 Faber Place Drive, Suite 201, N. Charleston, SC 29405.

FOR FURTHER INFORMATION CONTACT: Kim Iverson, Public Information Officer, SAFMC; phone 843/571-4366 or toll free 866/SAFMC-10; FAX 843/769-4520; email: kim.iverson@safmc.net.

SUPPLEMENTARY INFORMATION: The items of discussion in the individual meeting agendas are as follows:

MPA Expert Workgroup Agenda: Monday, February 4, 2013, 1:30 p.m. until Wednesday, February 6, 2013, 12 p.m.

1. Receive a presentation on the reorientation of existing MPAs based on occurrence and habitat.

2. Review and revise recommendations based on data availability, assumptions and other considerations with a focus on reorienting existing MPAs in order to reduce bycatch of speckled hind and warsaw grouper in the South Atlantic Region.

3. Discuss timing and develop workgroup report.

Joint Information & Education AP and Law Enforcement AP Agenda: Wednesday, February 6, 2013, 1:30 p.m. until 5 p.m.

1. Receive an overview of Snapper Grouper Amendment 30, pertaining to the Vessel Monitoring System (VMS), as well as a review of the VMS fact sheet.

2. Receive a presentation on the mobile phone application for SAFMC regulations.

3. Receive a presentation on the status of the SAFMC Web site upgrade, including upgrades to the law enforcement sections of the Web site. This includes a Law Enforcement Frequently Asked Questions (FAQ) section.

4. Review updates on the NOAA Office of Law Enforcement (OLE) Web site and discuss communication improvements regarding regulatory and law enforcement issues with officers and field offices.

Information & Education AP Agenda, Thursday, February 7, 2013, 9 a.m. until 5 p.m.

1. Receive an overview and an update on the Marine Resource Education Program (MREP) project.

2. Receive an update on the Atlantic States Marine Fisheries Communication Group Social Media Workshop.

3. Discuss the SAFMC Web site upgrade, including the Web site format and types of necessary outreach materials.

4. Receive an overview of proposed outreach materials for 2013.

5. Receive an overview of the SAFMC Visioning Process for snapper grouper species.

6. Discuss strategic planning.

Law Enforcement AP Agenda, Thursday, February 7, 2013, 9 a.m. until 5 p.m.

1. Approve agenda and March 2012 AP meeting minutes.

2. Receive an update on the following recently completed and developing amendments pertaining to the Snapper Grouper (SG) Fishery Management Plan: Regulatory Amendment 13, pertaining to the revision of Annual Catch Limits (ACLs); Regulatory Amendment 15 (yellowtail snapper and grouper); Amendment 28 (red snapper); Amendment 18B and Regulatory Amendment 16 (golden tilefish); Regulatory Amendment 14 (management measures for the complex); and Regulatory Amendment 17 (MPAs).

3. Review SG Regulatory Amendment 18, regarding the adjustment of the ACL/sector ACLs for vermilion snapper and red porgy based on recently completed stock assessment updates for these species.

4. Review SG Amendment 27, which assumes management responsibility for Nassau grouper in the Gulf of Mexico, increases the number of crew members allowed on dual-permitted snapper grouper vessels (vessels that have both a federal South Atlantic Charter/Headboat Permit for snapper grouper species and a South Atlantic Unlimited or 225 pound SG Permit), addresses the issues of captain and crew retention of bag limit quantities of snapper grouper species, proposes changes to the existing snapper grouper framework procedure to allow for more timely adjustments to ACLs, and modifies management measures for blue runner.

5. Review SG Amendment 30, which considers VMS requirements for vessels with South Atlantic commercial snapper grouper permits. This action was initially included in a separate amendment but was recently transferred to its own separate amendment.

6. Review Joint Mackerel Amendment 19, which addresses bag limit sales of king mackerel, Spanish mackerel and cobia, including a potential new commercial permit requirement for cobia. The amendment also addresses permit requirements for king mackerel and Spanish mackerel.

7. Review Joint Mackerel Amendment 20, which includes evaluation of boundaries, allocations and transit provisions; considers a commercial quota for North Carolina king and Spanish mackerel; and modifies the framework procedure.

8. Review the Mackerel Framework Amendment, which considers size limits, transfer allowances and changes in commercial trip limits.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Dated: January 15, 2013.
Tracey L. Thompson,
Acting Deputy Director, Office of Sustainable Fisheries, National Marine Fisheries Service.

[FR Doc. 2013-00973 Filed 1-17-13; 8:45 am]

BILLING CODE 3510-22-P